SOCIAL SECURITY ADMINISTRATION

[Docket No. SSA 2014-0057]

Privacy Act of 1974, as Amended; Computer Matching Program (SSA/Department of Homeland Security (DHS))—Match Number 1010

AGENCY: Social Security Administration (SSA).

ACTION: Notice of a renewal of an existing computer matching program that will expire on January 18, 2015.

SUMMARY: In accordance with the provisions of the Privacy Act, as amended, this notice announces a renewal of an existing computer matching program that we are currently conducting with DHS.

DATES: We will file a report of the subject matching program with the Committee on Homeland Security and Governmental Affairs of the Senate; the Committee on Oversight and Government Reform of the House of Representatives; and the Office of Information and Regulatory Affairs, Office of Management and Budget (OMB). The matching program will be effective as indicated below.

ADDRESSES: Interested parties may comment on this notice by either telefaxing to (410) 966-0869 or writing to the Executive Director, Office of Privacy and Disclosure, Office of the General Counsel, Social Security Administration, 617 Altmeyer Building, 6401 Security Boulevard, Baltimore, MD 21235-6401. All comments received will be available for public inspection at this address.

FOR FURTHER INFORMATION CONTACT: The Executive Director, Office of Privacy and Disclosure, Office of the General Counsel, as shown above.

SUPPLEMENTARY INFORMATION:

A. General

The Computer Matching and Privacy Protection Act of 1988 (Pub. L.) 100-503), amended the Privacy Act (5 U.S.C. 552a) by describing the conditions under which computer matching involving the Federal government could be performed and adding certain protections for persons applying for, and receiving, Federal benefits. Section 7201 of the Omnibus Budget Reconciliation Act of 1990 (Pub. L. 101-508) further amended the Privacy Act regarding protections for such persons.

The Privacy Act, as amended, regulates the use of computer matching by Federal agencies when records in a system of records are matched with other Federal, State, or local government records. It requires Federal agencies involved in computer matching programs to:

(1) Negotiate written agreements with the other agency or agencies participating in the matching programs;

(2) Obtain approval of the matching agreement by the Data Integrity Boards of the participating Federal agencies;

(3) Publish notice of the computer matching program in the Federal Register;

(4) Furnish detailed reports about matching programs to Congress and OMB;

(5) Notify applicants and beneficiaries that their records are subject to matching; and

(6) Verify match findings before reducing, suspending, terminating, or denying a person's benefits or payments.

B. SSA Computer Matches Subject to the Privacy Act

We have taken action to ensure that all of our computer matching programs comply with the requirements of the Privacy Act, as amended.

Kirsten J. Moncada,
Executive Director, Office of Privacy and Disclosure, Office of the General Counsel.

Notice of Computer Matching Program, SSA with the Department of Homeland Security (DHS)

A. Participating Agencies

SSA and DHS.

B. Purpose of the Matching Program

The purpose of this matching program is to set forth the terms, conditions, and safeguards under which DHS will disclose information to us for identifying aliens who leave the United States voluntarily and aliens who are removed from the United States. These aliens may be subject to suspension of payments or nonpayment of benefits or both. We will use DHS data to determine if suspension of payments or nonpayment of benefits is applicable.

C. Authority for Conducting the Matching Program

This agreement is executed under the Privacy Act of 1974, 5 U.S.C. 552a, as amended by the Computer Matching and Privacy Protection Act of 1988, as amended, and the regulations and guidance promulgated thereunder.

Legal authorities for the disclosures under this agreement are the Social Security Act (Act), 42 U.S.C. 402(n), 1382(f), 1382c(a)(1), and 1383(e)(1)(B) and (f), and the Immigration and Nationality Act (INA), 8 U.S.C. 1611 and 1612.

Section 1631(e)(1)(B) of the Act requires us to verify declarations of applicants for and recipients of Supplemental Security Income (SSI) payments before making a determination of eligibility or payment amount. Section 1631(f) of the Act requires Federal agencies to provide us with information necessary to verify SSI eligibility or benefit amounts or to verify other information related to these determinations. Section 202(n)(2) of the Act requires the Secretary of Homeland Security to notify the Commissioner of Social Security when certain individuals are removed from the United States under sections 212(a)(6)(A) and 237(a) of the INA.

D. Categories of Records and Persons Covered by the Matching Program

1. Aliens Who Leave the United States Voluntarily (SSI)

DHS will disclose to us information from the Benefit Information System (BIS) system of records, DHS/USCIS-007, 73 FR 56596 (September 29, 2008). DHS will electronically format the BIS data for transmission to us. BIS data is comprised of data collected from the United States Citizenship and Immigration Services (USCIS) immigration systems. USCIS data to be used to accomplish this matching agreement currently comes from the CLAIMS 3 Mainframe database.

We will match the DHS information with our systems of records: Master Files of Social Security Number (SSN) Holders and SSN Applications (Enumeration System), SSA/OEEAS 60-0058, last published on December 29, 2010 (75 FR 82121), and the Supplemental Security Income Record and Special Veterans Benefits (SSIR/SVB or SSR), SSA/OASSIS 60-0103, last published on January 11, 2006 (71 FR 1830).

2. Aliens Who Are Removed From the United States (RSDI and SSI)

DHS will disclose to us information from Immigration and Enforcement Operational Records System (ENFORCE), DHS/ICE-011, 75 FR 23274, last published on May 3, 2010. DHS will retrieve information on removed aliens from the DHS database known as the Enforcement Integrated Database (EID) and electronically format it for transmission to SSA.

Our systems of records used in the match are the Master Files of Social Security Number (SSN) Holders and SSN Applications, (Enumeration System), SSA/OEEAS, 60-0058, last published on December 29, 2010 (75 FR 82121), the Supplemental Security Income Record and Special Veterans Benefits (SSR), SSA/ODSSIS, 60-0103, last published on January 11, 2006 (71 FR 1830), the Master Beneficiary Record (MBR), SSA/OEEAS 60-0090, last published on January 11, 2006 (71 FR 1826) and the Prisoner Update Processing System (PUPS), SSA/OPB 60-0269, last published on March 8, 1999 (64 FR 11076). The Unverified Prisoner System (UPS) is a subsystem of PUPS. UPS users perform a manual search of fallout cases where the Enumeration and Verification System is unable to locate an SSN for an alien deportee.

3. Under an existing Interagency Agreement (IAA) between SSA and DHS, we have automated access to the DHS Systematic Alien Verification for Entitlements (SAVE) program that utilizes the VIS, DHS-USCIS-004, 77 FR 47415 (August 8, 2012). This system of records provides information on the current immigration status of aliens who have Alien Identification Numbers (“A” number). We will use the automated access to the SAVE program to verify current immigration status of aliens where the immediate EID match or any future claims activity indicate an alien has been removed or deported. The parties do not consider this verification as a separate match subject to the provisions of the CMPPA; the parties will conduct such verifications in compliance with the terms of the aforementioned IAA.

The systems of records involved in this computer matching program have routine uses permitting the disclosures needed to conduct this match.

E. Inclusive Dates of the Matching Program

The effective date of this matching program is January 19, 2015, provided that the following notice periods have lapsed: 30 days after publication of this notice in the Federal Register and 40 days after notice of the matching program is sent to Congress and OMB. The matching program will continue for 18 months from the effective date and, if both agencies meet certain conditions, it may extend for an additional 12 months thereafter.

[FR Doc. 2014-28327 Filed 12-1-14; 8:45 am]

BILLING CODE 4191-02-P